ENVIRONMENTAL PROTECTION AGENCY

[FRL-9452-4]

Proposed CERCLA Administrative Cost Recovery Settlement; Carpenter Avenue Mercury Site, Iron Mountain, Dickenson County, MI

AGENCY: Environmental Protection Agency (EPA).

ACTION: Notice; request for public comment.

SUMMARY: In accordance with Section 122(i) of the Comprehensive Environmental Response, Compensation, and Liability Act, as amended (“CERCLA”), 42 U.S.C. 9622(i), notice is hereby given of a proposed administrative settlement for recovery of past response costs concerning the Carpenter Avenue Mercury site in Iron Mountain, Dickenson County, Michigan with the following settling parties: The Salvation Army of Wauwatosa, Wisconsin, and the Trinity United Lutheran Church of Iron Mountain, Michigan. The settlement requires the Settling Parties to pay $35,000.00, plus any interest accrued between the date of receipt of notice by the Settling Parties that EPA has signed the CERCLA 122(h), 42 U.S.C. 9622(h) Settlement Agreement (Agreement) and the Effective Date of the Agreement, to the Hazardous Substance Superfund through an escrow account to be established by the Settling Parties. The settlement includes a covenant not to sue the Settling Parties pursuant to Section 107(a) of CERCLA, 42 U.S.C. 9607(a), and contribution protection for the Settling Parties pursuant to Sections 113(f)(2) and 122(h)(4) of CERCLA, 42 U.S.C. 9613(f)(2) and 9622(h)(4). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the Dickenson County Public Library, 401 Iron Mountain Street, Iron Mountain, Michigan (p: 906/774-1218), and the EPA, Region 5, Records Center, 77 W. Jackson Blvd., 7th Fl., Chicago, Illinois 60604.

DATES: Comments must be submitted on or before September 16, 2011.

ADDRESSES: The proposed settlement and a fact sheet providing additional background information relating to the settlement is available for public inspection at the EPA, Region 5, Records Center, 77 W. Jackson Blvd., 7th Fl., Chicago, Illinois 60604. A copy of the proposed settlement may be obtained from Thomas Turner, Assoc. Regional Counsel, EPA, Office of Regional Counsel, Region 5, 77 W. Jackson Blvd., mail code: C-14J, Chicago, Illinois 60604. Comments should reference the Carpenter Avenue Mercury site, Iron Mountain, Dickenson County, Michigan and EPA Docket No. and should be addressed to Thomas Turner, Assoc. Regional Counsel, EPA, Office of Regional Counsel, Region 5, 77 W. Jackson Blvd., mail code: C-14J, Chicago, Illinois 60604.

FOR FURTHER INFORMATION CONTACT: Thomas Turner, Assoc. Regional Counsel, EPA, Office of Regional Counsel, Region 5, 77 W. Jackson Blvd., mail code: C-14J, Chicago, Illinois 60604.

SUPPLEMENTARY INFORMATION: The Site is comprised of a former duplex residential building (demolished by the Settling PRPs during the removal action) located at 800 S. Carpenter Avenue, Iron Mountain (Dickenson County), Michigan. The Site is located in a residential neighborhood. At the time of the removal action, the Site building was owned by Settling Party Church and leased to Settling Party Salvation Army for use as housing for indigent people. In October 2008, the residents of the building discovered a 1 gallon gasoline container full of elemental mercury in the basement of the duplex residential building. The residents at the Site caused a release of the mercury. After initial response from local law enforcement and fire departments, EPA was contacted and began emergency response procedures, especially involving tracking and screening the potential spread of the Site mercury to nearby locations. Under EPA direction and oversight, Settling Party Salvation Army implemented a removal action at the Site to address the principal release of mercury. At the conclusion of this activity, Settling Party Church demolished the duplex residential building at the Site. EPA issued a June 21, 2010 Demand Letter to Settling Parties. Between June and December 2010, EPA and Settling Parties negotiated the present proposed Administrative Settlement.

Dated: July 27, 2011.
Richard C. Karl,
Director, Superfund Division.

[FR Doc. 2011-20967 Filed 8-16-11; 8:45 am]

BILLING CODE 6560-50-P